DEPARTMENT OF AGRICULTURE

Forest Service

Lake Tahoe Basin Federal Advisory Committee

AGENCY: Forest Service, USDA.

ACTION: Notice of meeting.

SUMMARY: The Lake Tahoe Basin Federal Advisory Committee (LTBFAC) will meet in South Lake Tahoe, California. The Committee is established pursuant to Executive Order 13057, and the Federal Advisory Committee Act of 1972. Additional information concerning the Committee can be found by visiting the Committee's Web site at: http://www.fs.usda.gov/goto/ltbmu/LTFAC.

DATES: The meeting will be held on Thursday, October 27, 2016, from 1:00 p.m. to 3:00 p.m.

All LTBFAC meetings are subject to cancellation. For updated status of the meeting prior to attendance, please contact the person listed under For Further Information Contact.

ADDRESSES: The meeting will be held at the Tahoe City Public Utility District, 221 Fairway Drive, Tahoe City, California.

Written comments may be submitted as described under SUPPLEMENTARY INFORMATION. All comments, including names and addresses, when provided, are placed in the record and are available for public inspection and copying. The public may inspect comments received at the USDA Forest Service, 35 College Drive, South Lake Tahoe, California. Please call ahead at 530-543-2774 to facilitate entry to the building.

FOR FURTHER INFORMATION CONTACT: Karen Kuentz, Lake Tahoe Basin Management Unit, USDA Forest Service, 35 College Drive, South Lake Tahoe, California 96150 by phone at 530-543-2774, or by email at kkuentz@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of this meeting is to:

1. Provide an update on the South Nevada Public Land Management Act (SNPLMA) secondary list and priority setting,

2. Provide a follow-up and debrief on the 20th Anniversary Lake Tahoe Summit, and

3. Provide an update on Forest Service Actions: Tree Mortality and Invasive Species.

The meeting is open to the public. The agenda will include time for people to make oral statements of three minutes or less. Individuals wishing to make an oral statement should submit a request in writing by October 20, 2016, to be scheduled on the agenda. However, anyone who would like to bring related matters to the attention of the Committee may file written statements with the Committee staff before or after the meeting. Written comments and time requests for oral comments must be sent to Karen Kuentz, USDA Forest Service, Lake Tahoe Basin Management Unit, 35 College Drive, South Lake Tahoe, California 96150; by email at kkuentz@fs.fed.us, or via facsimile to 530-543-2693.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: September 15, 2016.
Jeff Marsolais,
Forest Supervisor.

[FR Doc. 2016-23431 Filed 9-27-16; 8:45 am]

BILLING CODE 3411-15-P